DEPARTMENT OF HOMELAND SECURITY

Coast Guard

33 CFR Part 100

[Docket No. USCG-2022-0132]

Special Local Regulations; Annual Marine Events Within the Eighth Coast Guard District; Riverfest Power Boat Races

AGENCY: Coast Guard, Department of Homeland Security (DHS).

ACTION: Notification of enforcement of regulation.

SUMMARY: The Coast Guard will enforce will enforce special local regulation for the Riverfest boat races on the Neches River in Port Neches, TX, from April 29, 2022, through May 1, 2022, to provide for the safety of life on navigable waterways during this event. Our regulation for marine events within the Eighth Coast Guard District identifies the regulated area for this event in Port Neches, TX. During the enforcement periods, the operator of any vessel in the regulated area must comply with directions from the Patrol Commander or designated representative.

DATES: The regulations in 33 CFR 100.801, Table 3, line 4 will be enforced from 2 p.m. through 6 p.m. on April 29, 2022, and from 8:30 a.m. through 6 p.m. on April 30 and May 1, 2022.

FOR FURTHER INFORMATION CONTACT: If you have questions about this notification of enforcement, call or email Mr. Scott Whalen, U.S. Coast Guard; telephone 409-719-5086, email scott.k.whalen@uscg.mil.

SUPPLEMENTARY INFORMATION: The Coast Guard will enforce special local regulations in 33 CFR 100.801 Table 3, Line 4, for the Port Neches Riverfest boat races display from 2 p.m. through 6 p.m. on April 29, 2022, and from 8:30 a.m. through 6 p.m. on April 30 and May 1, 2022. This action is being taken to provide for the safety of life on navigable waterways during this three day event. Our regulations for marine events within the Eighth Coast Guard District, § 100.801, specifies the location of the safety zone for the Riverfest boat races which encompasses a portions of the Neches River adjacent to Port Neches Park. During the enforcement period, as reflected in § 100.801, Table 3, if you are the operator of a vessel in the regulated area you must comply with directions from the Patrol Commander or designated representative.

In addition to this notification of enforcement in the Federal Register, the Coast Guard plans to provide notification of the enforcement periods via Local Notice to Mariners, Marine Safety Information Bulletin and Vessel Traffic Service Advisory.

Dated: March 9, 2022.
Molly A. Wike,
Captain, U.S. Coast Guard, Captain of the Port Marine Safety Zone Port Arthur.

[FR Doc. 2022-05375 Filed 3-14-22; 8:45 am]

BILLING CODE 9110-04-P